NUCLEAR REGULATORY COMMISSION

[Docket Nos. 50-247 and 50-286; NRC-2008-0672]

Entergy Nuclear Operations, Inc.; Indian Point Nuclear Generating Unit Nos. 2 and 3; Notice of Availability of the Final Supplement 38 to the Generic Environmental Impact Statement for License Renewal of Nuclear Plants

Notice is hereby given that the U.S. Nuclear Regulatory Commission (NRC) has published a final plant-specific supplement to the Generic Environmental Impact Statement for License Renewal of Nuclear Plants (GEIS), NUREG-1437, regarding the renewal of Operating Licenses DPR-26 and DPR-64 for an additional 20 years of operation for Indian Point Nuclear Generating Unit Nos. 2 and 3 (IP2 and IP3). The IP2 and IP3 site is located approximately 24 miles north of New York, NY. Possible alternatives to the proposed action (license renewal) include no action and reasonable alternative energy sources.

As discussed in Section 9.3 of the final supplement, the staff determined that the adverse environmental impacts of license renewal for IP2 and IP3 are not so great that preserving the option of license renewal for energy-planning decision makers would be unreasonable. This recommendation is based on: (1) The analysis and findings in the GEIS; (2) information provided in the environmental report and other documents submitted by Entergy Nuclear Operations, Inc.; (3) consultation with Federal, State, local, and tribal agencies; (4) the staff's own independent review; and (5) consideration of public comments received during the scoping process and on the draft Supplemental Environmental Impact Statement.

The final Supplement 38 to the GEIS is publicly available at the NRC Public Document Room (PDR), located at One White Flint North, Public File Area O-1F21, 11555 Rockville Pike, Rockville, Maryland 20852, or from the NRC's Agencywide Documents Access and Management System (ADAMS). The ADAMS Public Electronic Reading Room is accessible at http://www.nrc.gov/reading-rm/adams.html. The accession numbers for the final Supplement 38 to the GEIS are ML103350405 (Volume 1), ML103350438, ML103360209, ML103360212 (Volume 2), and ML103350442 (Volume 3). Persons who do not have access to ADAMS or who encounter problems while accessing the documents located in ADAMS, should contact the NRC's PDR reference staff by telephone at (800) 397-4209 or (301) 415-4737, or by e-mail at pdr.resource@nrc.gov. In addition, the White Plains Public Library (White Plains, NY), Hendrick Hudson Free Library (Montrose, NY), and the Field Library (Peekskill, NY), have all agreed to make the final supplement available for public inspection.

For Further Information, Contact: Mr. Andrew Stuyvenberg, Projects Branch 2, Division of License Renewal, Office of Nuclear Reactor Regulation, U.S. Nuclear Regulatory Commission, Mail Stop O-11F1, Washington, DC 20555-0001. Mr. Stuyvenberg may be contacted by telephone at (800) 368-5642, extension 4006, or by e-mail at andrew.stuyvenberg@nrc.gov.

Dated at Rockville, Maryland, this 3rd day of December, 2010.
For the Nuclear Regulatory Commission.
David J. Wrona,
Chief, Projects Branch 2, Division of License Renewal, Office of Nuclear Reactor Regulation.

[FR Doc. 2010-31325 Filed 12-13-10; 8:45 am]

BILLING CODE 7590-01-P